OFFICE OF SPECIAL COUNSEL

5 CFR Part 1800

Revision of Regulations To Allow Federal Contractors, Subcontractors, and Grantees To File Whistleblower Disclosures With the U.S. Office of Special Counsel; Withdrawal of Proposed Rule

AGENCY: U.S. Office of Special Counsel.

ACTION: Withdrawal of proposed rulemaking.

SUMMARY: In the Federal Register published on January 22, 2015, the U.S. Office of Special Counsel (OSC) issued a proposed rule that would allow the agency to accept covered disclosures of wrongdoing from employees working under a contract or grant with the Federal government. OSC hereby withdraws this proposed rule.

DATES: The proposed rule that appeared on January 22, 2015 at 80 FR 3182 is withdrawn as of December 30, 2015.

FOR FURTHER INFORMATION CONTACT: Lisa V. Terry, General Counsel, U.S. Office of Special Counsel, by telephone at (202) 254-3600, by facsimile at (202) 254-3711, or by email at lterry@osc.gov.

SUPPLEMENTARY INFORMATION: The U.S. Office of Special Counsel (OSC) proposed revising its regulations to expand who may file a whistleblower disclosure with OSC. The proposed revision would have allowed employees of Federal contractors, subcontractors, and grantees to disclose wrongdoing within the Federal government if they work at or on behalf of a U.S. government component for which OSC has jurisdiction to accept disclosures. In response to the proposed rule, published in the Federal Register on January 22, 2015, OSC received 16 written comments. In light of the substantive issues raised by commenters, OSC is withdrawing its proposed rule for further consideration.

Dated: December 23, 2015.
Mark P. Cohen,
Principal Deputy Special Counsel.

[FR Doc. 2015-32855 Filed 12-29-15; 8:45 am]

BILLING CODE 7405-01-P